DEPARTMENT OF LABOR

Employment and Training Administration

[TA-W-71,099]

Seymour Tubing, Inc., Dunlap, TN; Notice of Termination of Investigation

Pursuant to Section 221 of the Trade Act of 1974, as amended, an investigation was initiated in response to a petition filed by a company official on June 9, 2009 on behalf of workers of Seymour Tubing, Inc., Dunlap, Tennessee.

The petition is a duplicate of petition (TA-W-71,051) filed on June 8, 2009, that is subject of an ongoing investigation. Therefore, further investigation in this case would serve no purpose and the investigation has been terminated.

Signed at Washington, DC, this 15th of July 2009.
Elliott S. Kushner,
Certifying Officer, Division of Trade Adjustment Assistance.

[FR Doc. E9-18054 Filed 7-28-09; 8:45 am]

BILLING CODE 4510-FN-P